FEDERAL RETIREMENT THRIFT INVESTMENT BOARD

Joint Federal Retirement Thrift Investment Board Member and Employee Thrift Advisory Council Meeting

August 24, 2020, 10:00 a.m.

Telephonic

Board Meeting Agenda

Open Session

1. Approval of the July 27, 2020 Board Meeting Minutes

2. Monthly Reports

(a) Participant Activity Report

(b) Investment Performance

(c) Legislative Report

3. Quarterly Reports

(d) Metrics

4. Participant Survey Report

5. Office of Communication & Education Annual Report

Contact Person for More Information: Kimberly Weaver, Director, Office of External Affairs, (202) 942-1640.

Supplementary Information: Dial-in (listen only) information: Number: 1-877-446-3914, Code: 4856948.

Dated: August 13, 2020.
Megan Grumbine,
General Counsel, Federal Retirement Thrift Investment Board.

[FR Doc. 2020-18122 Filed 8-18-20; 8:45 am]

BILLING CODE 6760-01-P